DEPARTMENT OF AGRICULTURE

Rural Housing Service

Request for Proposals: The National Emergency or Disaster Grants To Assist Low-Income Migrant and Seasonal Farmworkers

Announcement Type: Initial Notice of Funds Available (NOFA) inviting proposals from qualified applicants.

Catalog of Federal Domestic Assistance Number (CFDA): 10.405

SUMMARY: The Rural Housing Service (RHS) announces the availability of funds and the timeframe to submit applications for grants to provide emergency services to areas where the Secretary of Agriculture determines that a local, state, or national emergency or disaster has caused low-income migrant or seasonal farmworkers to lose income, be unable to work, or to stay at home or return home in anticipation of work shortages. For purposes of this NOFA, emergency services include any service that can be provided under the Robert T. Stafford Disaster Relief and Emergency Assistance Act (Pub. L. 93-288), as amended (Stafford Act), that also meets the requirements of 42 U.S.C. 5177a. For instance the Stafford Act and 41 U.S.C. 5177a would permit the following services:

• Activities to support state and local emergency assistance;

• Coordination of disaster relief provided by federal and non-federal organizations;

• Technical and advisory assistance to state and local governments;

• Emergency assistance through federal agencies;

• Debris removal through grants to state and local governments;

• Grants to individuals and households for temporary housing and uninsured personal needs; and

• Distribution of medicine, food and consumables.

Additionally, for this NOFA, the types of services could include, but are not limited to, assistance in meeting rent or mortgage payments, utility bills, child care, transportation, school supplies, food, repair or rehabilitation of farmworker housing, facilities related to farmworker housing such as an infirmary for emergency care of a child care facility, and the rehabilitation of existing farmworker housing units.

Please go to http://www.rurdev.usda.gov/rd/disasters to determine if your area has been identified by the Secretary of Agriculture as a national emergency or disaster area or contact your local Rural Development office.

DATES: The deadline for receipt of all applications in response to this NOFA is 5 p.m., Eastern Time, on April 4, 2008. The application closing deadline is firm as to date and hour. The Agency will not consider any application that is received after the closing deadline. Applicants intending to mail applications must provide sufficient time to permit delivery on or before the closing deadline. Acceptance by a post office or private mailer does not constitute delivery. Facsimile (FAX), and postage due applications will not be accepted.

ADDRESSES: Applications should be submitted to USDA Rural Housing Service; Attention: Henry Searcy, Jr., Senior Loan Specialist, Multi-Family Housing Processing Division STOP 0781 (Room 1263-S), or Bonnie Edwards-Jackson, Senior Loan Specialist, Multi-Family Housing Processing Division, STOP 0781 (Room 1239-S), U.S. Department of Agriculture, Rural Housing Service, 1400 Independence Ave., SW., Washington, DC 20250-0781.

FOR FURTHER INFORMATION CONTACT: Henry Searcy by telephone at (202) 720-1753 or Bonnie Edwards-Jackson at (202) 690-0759 or via e-mail at Henry.Searcy@wdc.usda.gov or Bonnie.Edwards@wdc.usda.gov. (Please note the phone numbers are not toll-free numbers.)

SUPPLEMENTARY INFORMATION:

Paperwork Reduction Act

The reporting requirements contained in this notice have been approved by the Office of Management and Budget under Control Number 0575-0045.

Overview

Public Law 110-28 appropriated $16,000,000 to provide emergency grants to assist low-income migrant and seasonal farmworkers to carryout section 2281 of the Food, Agriculture, Conservation and Trade Act of 1990 (42 U.S.C. 5177a). Section 2281 of the above act allows the Secretary of Agriculture to provide emergency grants to assist low-income migrant and seasonal farmworkers.

Program Administration

I. Funding Opportunities Description

This NOFA requests applications for the purpose of providing emergency services to low-income migrant and seasonal farmworkers. Eligibility for grants for emergency services is limited to public agencies or private organizations with tax exempt status under section 501(c)(3) of Title 26 United States Code that have experience in providing emergency services to low-income migrant and seasonal farmworkers. These funds are to be administered in areas where the Secretary of Agriculture determines that a local, state, or national emergency or disaster has occurred.

This NOFA will fund service providers to administer all services permitted under the Stafford Act and 42 U.S.C. 5177a. These services could include, but are not limited to, providing assistance in meeting rent or mortgage payments, paying utility bills, child care, transportation, school supplies or food; repair or rehabilitation of farmworker housing or facilities related to farmworker housing such as an infirmary for emergency care or a child care facility.

The term “low-income migrant or seasonal farmworker” means an individual (1) who has, during any consecutive 12 month period within the preceding 24 month period, performed farm work for wages, (2) who has received not less than one-half of such individual's total income, or been employed at least one-half of total work time in farm work, (3) whose annual family income within the 12 month period referred to in paragraph (1) does not exceed the higher of the poverty level or 70 percent of the lower living standard income level, (4) is a person lawfully admitted for permanent residence.

The “lower living standard income level” referred to in paragraph (3) is defined under section 101(24) of the Workforce Investment Act (Pub. L. 105-220). This act is administered by the Department of Labor. Tables designating the “lower living standard income level” are published in the Federal Register by Health and Human Services. The most recent publication can be found in the Federal Register on June 24, 2007 at 72 FR 15.

II. Award Information

The U.S. Troop Readiness, Veterans' Care, Katrina Recovery and Iraq Accountability Appropriations Act 2007 Public Law 110-28, made available $16,000,000 to provide emergency services to low-income migrant and seasonal farmworkers where the Secretary of Agriculture determines that a local, state, or national emergency or disaster has caused low-income migrant or seasonal farmworkers to lose income, be unable to work, or to stay at home or return home in anticipation of work shortages.

III. Eligibility Information

The applicant must:

(1) Be eligible to receive a grant for the above assistance the applicant must be a broad-based nonprofit organization (which may include faith-based organizations), a nonprofit organization of farmworkers, a community organization, a federally recognized Indian tribe, or an agency or political subdivision of a State or local government, or a public agency (such as a housing authority).

(2) Be unable to provide the necessary services from its own resources.

(3) Possess the legal and actual capacity, ability, and experience to incur and carry out the undertakings and obligations incurred.

(4) Legally obligate itself not to divert income to any other business, enterprise, or purpose.

(5) Have experience in providing emergency services to low-income migrant and seasonal farmworkers.

(6) Be either a public agency or private organization with tax exempt status under section 501(c)(3) of Title 26 United States Code.

(7) Not be debarred or suspended.

IV. Equal Opportunity and Nondiscrimination Requirements

(1) In accordance with the Fair Housing Act, Title VI of the Civil Rights Act of 1964, the Equal Credit Opportunity Act, the Age Discrimination Act of 1975, Executive Order 12898, the Americans with Disabilities Act, and section 504 of the Rehabilitation Act of 1973, neither the Grantor nor the Agency will discriminate against any employee, proposed intermediary or proposed ultimate recipient on the basis of sex, marital status, race, color, religion, national origin, age, sexual orientation, physical or mental disability (provided the proposed intermediary or proposed ultimate recipient has the capacity to contract), because all or part of the proposed intermediary's or proposed ultimate recipient's income is derived from public assistance of any kind, or because the proposed intermediary or proposed ultimate recipient has in good faith exercised any right under the Consumer Credit Protection Act, with respect to any aspect of a credit transaction anytime Agency loan funds are involved.

(2) The policies and regulations contained in 7 CFR part 1901, subpart E apply to this program.

(3) The Rural Housing Service Administrator will assure that equal opportunity and nondiscrimination requirements are met in accordance with the Fair Housing Act, Title VI of the Civil Rights Act of 1964, the Equal Credit Opportunity Act, the Age Discrimination Act of 1975, Executive Order 12898, the Americans with Disabilities Act, and section 504 of the Rehabilitation Act of 1973.

(4) All housing must meet the accessibility requirements found at 7 CFR 3560.60(d).

V. Application and Submission Information

The application process will be the submission of an application. In the event that a proposal is selected for further processing and the applicant declines, the next highest ranked unfunded application may be selected. At the time of final grant approval, the Agency and grant recipients shall enter into an Agency approved grant agreement.

Application Requirements

The application must contain the following:

Experience of applicant providing emergency services. Greater than 10 years experience providing emergency services (15 points). Between 6 years and 10 years experience providing emergency services (10 points). Less than 5 years (1) A summary page listing the following items. This information should be double-spaced between items and not be in narrative form.

(a) Applicant's name.

(b) Applicant's Taxpayer Identification Number.

(c) Applicant's address.

(d) Applicant's telephone number.

(e) Name of applicant's contact person, telephone number, and address.

(f) Amount of grant requested.

(g) The applicant's Dun and Bradstreet Data Universal Numbering System (DUNS) number. As required by the Office of Management and Budget (OMB), all non-individual grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (68 FR 38402-38405).

(2) A narrative describing the applicant's ability to meet the eligibility requirements stated in this NOFA.

(3) A detailed Statement of Work.

(4) A current, dated, financial statement signed by a certified public accountant showing the applicant's assets and liabilities with information on the repayment schedule and status of all debts.

(5) An organizational plan that includes a staffing chart complete with employee names, job titles, salaries, hours, timelines, and duties to achieve the objective of the grant program.

(6) A detailed budget plan projecting the applicant's monthly and annual income and expenses the grantee will incur. Costs will be limited to those that are allowed under 7 CFR part 3015, and 7 CFR part 3016 or 3019 as applicable.

(7) A narrative describing the applicant's knowledge, demonstrated ability and practical experience in delivering direct emergency assistance to low-income migrant and seasonal farmworkers. In addition, to ensure the funds are equitably distributed, and that there is no duplication of efforts, applicants must clearly identify the geographic area that they intend to serve and provide documentation that they have the experience and ability to service those areas.

VI. Application Review Information

All applications will be evaluated by a grant committee. The grant committee will make recommendations to the Agency Administrator concerning eligibility determinations and the selection of applications based on the selection criteria contained in this NOFA and the availability of funds. The Administrator will inform applicants of the status of their application within 30 days of the closing date of the NOFA.

Applications for grants to provide emergency services to low-income migrant and seasonal farmworkers will be evaluated by the types of assistance to be provided. Because the types of assistance may differ depending on the geographic area the committee will recommend to the Administrator three Technical Assistance (TA) providers. Each TA provider would be responsible for a region (western, central and eastern region).

Selection Criteria

Applications to provide emergency services to low-income migrant and seasonal farmworkers will be scored on the following basis:

(1) The number of low-income migrant and seasonal farmworkers to be assisted by the proposal. Greater than 100 farmworkers—not counting non-farmworker family members (25 points). Between 50 and 100 farmworkers—not counting non-farmworker family members (15 points). Less than 50 farmworkers but more than 25—not counting non-farmworker family members (5 points).

(2) Economic and social benefits to low-income migrant and seasonal farmworkers and their families from the services to be provided. Providing rental and mortgage assistance (10 points). Providing other authorized services (10 points).

VII. Appeal Process

All adverse determinations regarding applicant eligibility and the awarding of points as part of the selection process are appealable. Instructions on the appeal process will be provided at the time an applicant is notified of the adverse action.

USDA is an equal opportunity provider, employer and lender. To file a complaint of discrimination write USDA, Director, Office of Civil Rights, 1400 Independence Avenue, SW., Washington, DC 20250-9410 or call (800) 795-3272 (voice) or (202) 720-6382 (TDD).

Dated: January 24, 2008.
Russell T. Davis,
Administrator, Rural Housing Service.

[FR Doc. E8-1951 Filed 2-1-08; 8:45 am]

BILLING CODE 3410-XV-P